DEPARTMENT OF ENERGY

Federal Energy Regulatory Commission

[Docket Nos. IS18-766-000; IS18-767-000]

Mid-America Pipeline Company, LLC, Seminole Pipeline Company LLC; Notice Rescheduling Technical Conference

The technical conference that has been rescheduled for February 20, 2019, is hereby postponed due to the forecast of inclement weather. Information regarding the new date for this conference will be forthcoming in subsequent notice.¹

¹ See the Notice of Technical Conference issued on December 12, 2018, for additional details regarding this conference.

Dated: February 19, 2019.
Kimberly D. Bose,
Secretary.

[FR Doc. 2019-03261 Filed 2-25-19; 8:45 am]

BILLING CODE 6717-01-P